DEPARTMENT OF AGRICULTURE

Agricultural Marketing Service

[Docket Number FV-06-316]

United States Standards for Grades of Oranges (California and Arizona) and/or United States Standards for Grades of Grapefruit (California and Arizona)

AGENCY: Agricultural Marketing Service, USDA.

ACTION: Notice.

SUMMARY: The Agricultural Marketing Service (AMS), prior to undertaking research and other work associated with revising official grade standards, is soliciting comments on the need for possible revisions to the United States Standards for Grades of Oranges (California and Arizona) and/or United States Standards for Grades of Grapefruit (California and Arizona). AMS is seeking comments regarding any revisions to the United States Standards for Grades of Oranges (California and Arizona) and/or United States Standards for Grades of Grapefruit (California and Arizona) that may be necessary to better serve the industry.

DATES: Comments must be received by October 24, 2006.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Oranges (California and Arizona) and/or United States Standards for Grades of Grapefruit (California and Arizona) are available either at the above address or by accessing the AMS, Fresh Products Branch Web site at: http://www.ams.usda.gov/ standards/stanfrfv.htm.

FOR FURTHER INFORMATION CONTACT: Cheri Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA AMS Fruit and Vegetable Programs.

AMS is considering whether to revise the U.S. Standards for Grades of Oranges (California and Arizona) and United States Standards for Grades of Grapefruit (California and Arizona) using the procedures that appear in Part 36, Title 7 of the Code of Federal Regulations (7 CFR part 36). These standards were last revised in 1999.

Background

AMS has identified the United States Standards for Grades of Oranges (California and Arizona) and/or United States Standards for Grades of Grapefruit (California and Arizona) for possible revisions. AMS has identified the standards may need to be revised to reflect current marketing trends. However, prior to undertaking detailed work to develop proposed revisions to the standards, AMS is seeking suggestions from the industry on possible revisions, such as: changing the basic requirements to the grades, or changing the tolerances in order to make them more suitable for the markets, adding additional definitions, or revising the existing definitions particularly those that contain scoring guides for defects. These areas for possible revisions are only illustrative. AMS invites suggestions on all aspects of these standards that may need to be revised.

This notice provides for a 60-day comment period for interested parties to comment on whether any changes are necessary to the standards. Should AMS conclude that there is a need for any revisions of the standards, the proposed revisions will be published in the Federal Register with a request for comments in accordance with 7 CFR part 36.

Authority: 7 U.S.C. 1621-1627.

Dated: August 21, 2006.
Lloyd C. Day,
Administrator, Agricultural Marketing Service.

[FR Doc. E6-14113 Filed 8-24-06; 8:45 am]

BILLING CODE 3410-02-P